The President

3 CFR

To Modify the Harmonized Tariff Schedule of the United States, To Adjust Rules of Origin Under the United States-Australia Free Trade Agreement and for Other Purposes

Correction

In Presidential document 07-4 beginning on page 453 in the issue of Thursday, January 4, 2007, make the following corrections:

1. In the document heading, “Proclamation 8097 of December 27, 2006” should read “Proclamation 8097 of December 29, 2006”.

2. The Federal Register running head is corrected to read as follows:

“Federal Register/ Vol. 72, No. 2/ Thursday, January 4, 2007/ Presidential Documents”.

[FR Doc. C7-4 Filed 2-9-07; 8:45 am]

BILLING CODE 1505-01-D